DEPARTMENT OF HEALTH AND HUMAN SERVICES

Administration on Aging

[Program Announcement No. AoA-01-12]

Grants to Indian Tribal Organizations for the Native American Caregiver Support Program

AGENCY: Administration on Aging (AoA), HHS.

ACTION: Announcement of availability of funds and opportunity to apply under the Older Americans Act (OAA), title VI, Part C, Native American Caregiver Support Program.

Applicant Eligibility and Requirements: The AoA will accept applications for funding in fiscal year (FY) 2002 under the OAA, title VI, part C, Native American Caregiver Support Program from all title VI, part A grantees who are not currently receiving funding. In addition, federally recognized Indian tribal organizations that are not now participating in title VI, part A, however are applying separately for title VI, part A funds as a new grantee for the project period April 1, 2002-March 31, 2005 are eligible to apply. Successful applications will be funded if funds allow. Current title VI, part C grant recipients do not need to reapply for the Native American Family Caregiver Support Program.

Availability of Funds: Approximately $5 million dollars will be available in Fiscal Year 2002 to fund both current and new title VI, part C grants.

DATES: The deadline date for the submission of applications is January 18, 2002.

FOR FURTHER INFORMATION CONTACT: M. Yvonne Jackson, Ph.D.; Office for American Indian, Alaskan Native, and Native Hawaiian Programs; Administration on Aging; Department of Health and Human Services; Cohen Building; Room 4743; 330 Independence Avenue, SW., Washington, DC 20201; telephone (202) 619-2713; fax (202) 260-1012; e-mail: Yvonne.Jackson@aoa.gov.

SUPPLEMENTARY INFORMATION

1. Background and Program Purpose

The Administration on Aging (AoA) is responsible for administering title VI, part C of the OAA, which provides for grants to help families caring for an older relative with a chronic illness or disability. The program will help tribes in providing multifaceted systems of support services for family caregivers and for grandparents or older individuals who are relative caregivers.

2. Eligibility of an Indian Tribal Organization or Indian

To be eligible to receive a grant, a tribal organization must have an application approved under title VI, part A. For those applying for the project period April 1, 2002-March 31, 2005 funding for title VI, part C will be contingent upon approval of one's title VI, part A application. A tribal organization must meet the requirements as contained in section 631 of the OAA. This section states that in providing services under subsection (a), a tribal organization shall meet the requirements specified for an area agency on aging and for a State in the provisions of subsections (c), (d), and (e) of section 373 and of section 374. References in such provision to a State program shall be considered to be references to a tribal program.

3. Available Funds

Distribution of funds among tribal organizations is subject to the availability of appropriations to carry out title VI, part C. Information on estimated grant amounts is given below as a guide to possible funding levels for tribes representing the following documented numbers of Indian elders over age 60 as stated in your most recently approved title VI, part A or B application.

Estimated Grant Amounts:

$10,000 for populations of 50-100 elders

15,000 for populations of 101-200 elders

20,000 for populations of 201-300 elders

25,000 for populations of 301-400 elders

30,000 for populations of 401-500 elders

35,000 for populations of 501-1500 elders

40,000 for populations of 1501+ elders

4. Application Process

Applicants should submit applications, describing their proposed plans for their Caregiving Program as described in “Content of the Application.”

The project period for this grant will be April 1, 2002-March 31, 2005. A three-year project period was chosen to reduce the paperwork burden on the grantees and to align this grant with the AoA title VI, part A grants.

Funding will be based on the numbers of eligible elders age 60 and over as stated in your most recently approved title VI, part A or part B application.

The progress reports, consisting of a narrative and Financial Status Report (Standard Form 269), will be reviewed for compliance with the program requirements. Failure to submit the required reports during the project period may result in loss of future funds and possibly termination of the grant within the project period.

Thirty days before the end of each budget period within the three-year project period grantees shall notify AoA about their desire to continue as a grantee. Failure to submit this documentation within the required timeframe may result in loss of grant funding. At the beginning of each budget period within the three-year project period grantees will be notified of the funding level for the following year.

One original application, signed by the principal official of the tribe, and two copies of the complete application, including all attachments, must be submitted to the Administration receipt point named under Address. Tribal resolutions may be included in the application, but are not required. Incomplete applications and applications postmarked after the closing date will not be considered for funding.

5. Content of the Application

Although these formula grants may build on existing services, these grants are not intended merely to augment services being provided through title VI, parts A and B. The Caregiver Support Program must demonstrate how it will provide the five basic components of the program either through these grant funds or coordinating with other programs and services to assure the components are provided. The five components are: (1) Information to caregivers about available services; (2) assistance to caregivers in gaining access to the services; (3) individual counseling, organization of support groups, and caregiver training to caregivers to assist the caregivers in making decisions and solving problems relating to their caregiving roles; (4) respite care to enable caregivers to be temporarily relieved from their caregiving responsibilities; and (5) supplemental services, on a limited basis, to complement the care provided by caregivers. Examples of services in the five service categories include:

Information: Group services, including public education, provision of information at community meetings, health fairs, and other similar meetings; mass media, including articles and notices in Tribal newspaper and newsletters and radio and TV announcements.

Assistance: Individual one-on-one contact for the purpose of linking the caregiver with opportunities and services that are available, and when possible, ensuring that the caregiver receives the services by establishing adequate follow-up.

Counseling/Support Groups/Training: Provision of advice, guidance and instruction about options and methods for providing support to caregivers in an individual or group setting.

Respite: Temporary, substitute supports or living arrangements to provide brief period of relief or rest for caregivers who are caring for a frail elder. It can be in the form of in-home respite care, adult day care respite, or institutional respite for an overnight stay on an intermittent, occasional, or emergency basis.

Supplemental Services: Other services, as defined by the Tribe, to support the needs of caregivers providing care to frail elders.

Provisions of the above five services must be addressed in the application. Money from this grant does not have to pay for each of these five service areas as long as you are able to demonstrate how these services will be coordinated and provided as a multifaceted program. The application needs to describe how the tribal organization will coordinate with the activities of other community agencies and voluntary organizations providing caregiver support services and activities.

The application needs to provide information on how older individuals with the greatest social and economic need and older individuals providing care and support to persons with mental retardation and related developmental disabilities will receive priority. Finally, the application needs to provide information about what quality standards and mechanisms will be established and how these standards and mechanisms will be used to monitor the program and provide assurances that the tribal organization will submit the required reports to the AoA in the format and time frames established by AoA.

The application may be submitted in a narrative format. Grantees are required to submit two progress reports consisting of a narrative and Financial Status Report (Standard Form 269), within each budget period. A Title VI Update with a reporting schedule will be provided after the title VI, part C grants are awarded.

6. Closing Date for Application

All applications must be postmarked on or before January 18, 2002. (Applicants are cautioned to request a legibly dated U.S. Postal Service postmark, or to obtain a legibly dated receipt for a commercial carrier or the U.S. Postal Service. Private metered postmarks are not acceptable as proof of timely mailing.)

7. Action on Applications

Awards will be made by the Assistant Secretary for Aging. Funding decisions will be announced as soon as possible.

Dated: September 10, 2001.
Catalog of Federal Domestic Assistance Program #93.655 Grants to Indian Tribes and Native Hawaiians. This Program Announcement is not subject to EO 12372.
Josefina G. Carbonell,
Assistant Secretary for Aging.

[FR Doc. 01-23170 Filed 9-14-01; 8:45 am]

BILLING CODE 4154-01-P